NATIONAL SCIENCE FOUNDATION

Sunshine Act Meeting

Agency Holding Meeting: National Science Foundation, National Science Board and its Subdivisions.

Federal Register Citation of Previous Announcement: Volume 69, Number 84, Federal Register, pages 23823-23824, April 30, 2004

Previously Announced Date and Time: Monday, May 3, 2004.

Additional Concurrent Session

Open

National Science Board, ad hoc Task Group on High Risk Research (11:00—11:30 a.m.), Room 1295.

Place: The National Science Foundation, 4201 Wilson Boulevard, Arlington, VA 22230, www.nsf.gov/nsb.

Contact for Information: National Science Board Office (703) 202-7000

Status: Open.

Changes in the Meeting: A half-hour open meeting was added to the agenda after the schedule was published in the Federal Register. Public announcement of this additional session was made on the National Science Board Web site ahead of the meeting. The following topic was discussed.

Discussion: Discussion of Workshop and White Paper.

Michael P. Crosby,
Executive Officer, NSB.

[FR Doc. 04-11939 Filed 5-21-04; 2:58 pm]

BILLING CODE 7555-01-M